DEPARTMENT OF THE INTERIOR

Bureau of Land Management

[NV-910-00-0777XQ-241A]

Sierra Front-Northwestern Great Basin Resource Advisory Council, Northeastern Great Basin Resource Advisory Council, and Mojave-Southern Great Basin Resource Advisory Council; Notice of Meeting Locations and Times

AGENCY: Bureau of Land Management, Interior.

ACTION: Combined Resource Advisory Council meeting locations and times.

SUMMARY: In accordance with the Federal Land Policy and Management Act and the Federal Advisory Committee Act of 1972 (FACA), the Department of the Interior, Bureau of Land Management (BLM) Council meetings will be held as indicated below. Topics for discussion will be a presentation and discussion of Fiscal Year 2000 operations, and outlook for Fiscal Year 2001 of the BLM in Nevada; opening and closeout reports of the three RACs; implementation of the Southern Nevada Public Land Management Act of 1998; breakout meetings of the three RACs; and other topics the Councils may raise. There will be luncheon speakers both days.

All meetings are open to the public. The public may present written comments to the Council. The public comment period for the Council meeting will be at such times during the meeting as determined by the State Director, and at 2:00 p.m. on Friday, October 27. Individuals who plan to attend and need further information about the meeting or need special assistance such as sign language interpretation or other reasonable accommodations, should contact Robert Stewart at the Nevada State Office, BLM, 1340 Financial Blvd., Reno, telephone (775) 861-6586.

DATES, TIMES: The Council will meet on Thursday, October 26, 2000, from 8:30 a.m. to 4:30 p.m. and Friday, October 27, 2000, from 8 a.m. to 3 p.m., or when business is complete, at The Casa Blanca Hotel in Mesquite, Nevada. If due to unforeseeable problems this site is not available, the meeting will be rescheduled. Public comment will be received at the discretion of the State Director, as meeting moderator, with a general public comment period on Friday, October 27, 2000, at 2 p.m.

FOR FURTHER INFORMATION CONTACT: Robert Stewart, Public Affairs Specialist, Office of Communications, BLM Nevada State Office, 1340 Financial Blvd., Reno, Nevada, 89502-7147, telephone (775) 861-6586.

Dated: September 29, 2000.
Robert V. Abbey,
Nevada State Director.

[FR Doc. 00-25551 Filed 10-04-00; 8:45 am]

BILLING CODE 4310-HC-M